NATIONAL SCIENCE FOUNDATION

National Science Board; Notice of Opportunity for Public Comment on the National Science Board Data Policies Report

AGENCY: National Science Board (NSB), NSF.

ACTION: Request for public comments.

SUMMARY: The National Science Board seeks comments from the public on the report from the Committee on Strategy and Budget's Task Force on Data Policies, Digital Research Data Sharing and Management.

DATES: Send comments by email to Blane Dahl at the National Science Board Office at bdahl@nsf.gov. Comments are due by close of business Wednesday, January 18, 2012.

SUPPLEMENTARY INFORMATION: Recognizing that the proliferation of digital research data has significant policy implications, the National Science Board Committee on Strategy and Budget established the Task Force on Data Policies to lead a broad examination on how research data collected with NSF funding are shared and managed to ensure broad, timely, and long-term availability to the research community. The recommendations in the resulting Data Policies Report reflect the Board's firm commitment to ensuring broad, timely, and sustained access to digital research data; addressing the cost burdens associated with managing digital research data; and developing a qualified workforce in data-enabled science and engineering.

The full Report is available at http://www.nsf.gov/nsb/news/news_summ.jsp?cntn_id=122702&org=NSB&from=news. Comments should be germane to the subject matter of the Report.

FOR FURTHER INFORMATION CONTACT: For further information about this notice, please contact the National Science Board Office, telephone: (202) 292-7000.

Dated: January 6, 2012.
Ann Bushmiller,
Senior Counsel to the National Science Board.

[FR Doc. 2012-358 Filed 1-11-12; 8:45 am]

BILLING CODE 7555-01-P